NATIONAL AERONAUTICS AND SPACE ADMINISTRATION

[NOTICE: (20-070)]

Name of Information Collection: NFS 1827, Patents, Data, Copyrights

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections.

DATES: Comments are due by September 30, 2020.

ADDRESSES: All comments should be addressed to Travis Kantz, National Aeronautics and Space Administration, 300 E Street SW, Washington, DC 20546-0001 or call 202-358-2375.

FOR FURTHER INFORMATION CONTACT: Requests for additional information or copies of the information collection instrument(s) and instructions should be directed to Travis Kantz, NASA Clearance Officer, NASA Headquarters, 300 E Street SW, JF0000, Washington, DC 20546, 281-792-7885 or email claire.a.little@nasa.gov.

SUPPLEMENTARY INFORMATION:

I. Abstract

Contractors performing research and development are required by statutes, NASA implementing regulations, and OMB policy to submit reports of inventions, patents, data, and copyrights, including the utilization and disposition of same. The NASA New Technology Summary Report reporting form is being used for this purpose.

II. Methods of Collection

NASA FAR Supplement clauses for patent rights and new technology encourage the contractor to use an electronic form and provide a hyperlink to the electronic New Technology Reporting Web (e-NTR) site http://invention.nasa.gov. This website has been set up to help NASA employees and parties under NASA funding agreements (i.e., contracts, grants, cooperative agreements, and subcontracts) to report new technology information directly, via a secure internet connection, to NASA.

III. Data

Title: NFS 1827—Patents, Data, and Copyrights.

OMB Number: 2700-0052.

Type of Review: Extension of a currently approved collection.

Affected Public: Businesses, colleges and university and/or other for-profit institutions.

Estimated Annual Number of Activities: 3372.

Estimated Number of Respondents per Activity: 1.

Annual Responses: 3372.

Estimated Time per Response: 3 hours average.

Estimated Total Annual Burden Hours: 10,116.

Estimated Total Annual Cost: 518,191.45.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Roger Kantz,
NASA PRA Clearance Officer.

[FR Doc. 2020-19524 Filed 9-2-20; 8:45 am]

BILLING CODE 7510-13-P